DEPARTMENT OF EDUCATION

Office of Special Education and Rehabilitative Services; Overview Information; Technology and Media Services for Individuals With Disabilities—Center on Accessible and Supported Electronic Text To Improve Mathematics Achievement for Students With Disabilities; Notice Inviting Applications for New Awards for Fiscal Year (FY) 2009

Catalog of Federal Domestic Assistance (CFDA) Number: 84.327H.

DATES:

Applications Available: July 23, 2009.

Deadline for Transmittal of Applications: August 24, 2009.

Deadline for Intergovernmental Review: September 1, 2009.

Full Text of Announcement

I. Funding Opportunity Description

Purpose of Program: The purposes of the Technology and Media Services for Individuals with Disabilities program are to: (1) Improve results for children with disabilities by promoting the development, demonstration, and use of technology, (2) support educational media services activities designed to be of educational value in the classroom setting to children with disabilities, and (3) provide support for captioning and video description of educational materials that are appropriate for use in the classroom setting.

Priority: In accordance with 34 CFR 75.105(b)(2)(v), this priority is from allowable activities specified in the statute (see sections 674 and 681(d) of the Individuals with Disabilities Education Act (IDEA), 20 U.S.C. 1400 et seq.).

Absolute Priority: For FY 2009 and any subsequent year in which we make awards from the list of unfunded applicants from this competition, this priority is an absolute priority. Under 34 CFR 75.105(c)(3), we consider only applications that meet this priority.

This priority is:

Technology and Media Services for Individuals With Disabilities—Center on Accessible and Supported Electronic Text to Improve Mathematics Achievement for Students With Disabilities.

Background:

IDEA and the Elementary and Secondary Education Act of 1965, as amended (ESEA), require increased accountability for the academic performance of students with disabilities. IDEA requires that students with disabilities participate in the general education curriculum to the maximum extent possible, and ESEA establishes the expectation that all students, including students with disabilities, will achieve proficiency on grade-level academic content. However, students with disabilities, on average, continue to demonstrate lower levels of academic performance when compared to their non-disabled peers. According to the 2007 National Assessment of Educational Progress, 40 percent of fourth graders with disabilities scored below “Basic” in mathematics compared to 16 percent of non-disabled students (Lee, Grigg, & Dion, 2007). Recently, the National Mathematics Advisory Panel (2008) called for more coherent and rigorous mathematics instruction focused on the higher-level mathematics skills needed for postsecondary education and the workplace of the future. Accordingly, it is necessary both to close the performance gaps for students with disabilities and to find new approaches for including students with disabilities in challenging curriculum reforms in mathematics.

Educators can address these challenges by using technology tools that expand access to the general education curriculum and improve academic achievement for all students. Electronic text (i.e., text and graphics in a form that can be stored, manipulated, and displayed by a computer) is one such technology tool. Electronic text can be used to provide students with access to challenging academic instruction and can incorporate a variety of instructional supports to facilitate and extend learning (Higgins & Boone, 2001; Rose & Meyer, 2002; Stahl, 2004). Anderson-Inman (2004) described different types of supportive resources that can be added to electronic text, such as resources that provide: Assistance in visualizing information, a condensed view of information, enrichment that supplements required learning, and tools for learning in collaboration with others.

In 2005, the Office of Special Education Programs (OSEP) funded, through a five-year cooperative agreement, the National Center for Supported Electronic Text (NCSET). NCSET investigated, at seven research sites across the country, how supported electronic text affected students with disabilities' reading comprehension of content area material. Initial NCSET findings suggest that supported text can be effective in improving reading comprehension and content area learning. The following Web site provides more information on NCSET: http://ncset.uoregon.edu/.

The effectiveness of supported electronic text in improving mathematics learning has not yet been explored and is not in the research plans for NCSET. We propose to address the lack of research on the types of electronic text supports that could facilitate learning in mathematics because of the potential benefits these supports could offer students with disabilities.

As electronic text and other electronic media become more prevalent in schools, they are likely to play an increasing role in mathematics instruction. (Stevenson, 2006; Simba Information, 2008). Moreover, based on what we have learned to date on the effectiveness of supported electronic text in improving the reading comprehension of students with disabilities, we believe that supported electronic text has the potential for facilitating learning mathematics for students with disabilities. For example, learning in mathematics involves acquiring new vocabulary and concepts, applying previous learning to new learning, and constructing meaning from text, which are learning processes for which electronic supports have been developed and studied. Additional research is needed on the use of electronic supports for processes specific to mathematics learning such as interpreting word problems and solving them arithmetically, achieving automaticity in basic mathematics facts, and becoming proficient in complex, multi-step computational procedures (Bryant, Bryant & Hammill, 2000). In addition, electronic supports may also be used to improve access to mathematics content and mathematics learning for students with visual impairments where learning involves understanding visual stimuli (e.g. graphs, diagrams, and geometric shapes).

For all of these reasons, OSEP is establishing a priority for a research center that will explore the effectiveness of supported electronic text in mathematics learning for students with disabilities.

Priority:

The purpose of this priority is to fund a cooperative agreement to support the establishment and operation of a Center on Accessible and Supported Electronic Text to Improve Mathematics Achievement for Students with Disabilities (Center). The Center will conduct a systematic program of research and development on the use of accessible, supported electronic text for improving the mathematics achievement of students with disabilities.

To be considered for funding under this absolute priority, applicants must meet the application requirements contained in this priority. A project funded under this absolute priority also must meet the programmatic and administrative requirements specified in the priority.

Application Requirements. An applicant must include in its application—

(a) A review of research on mathematics learning and instructional technology in relation to students with disabilities that—

(1) Documents the nature of difficulties these students experience in gaining access to mathematics content and in learning mathematics, and the types of instructional supports that have been incorporated into electronic text to address these difficulties;

(2) Discusses previously developed instructional supports that need additional research validation in relation to mathematics learning as well as new instructional supports that might be developed or adapted for use in instructing students with disabilities in mathematics; and

(3) Includes one or more “theories of change” that explains how features and components of the instructional supports can facilitate learning in mathematics. A theory of change provides a useful means for evaluating the potential efficacy of the instructional support and for tying it to its theoretical and empirical foundations. The applicant may apply a theory of change that is already available in the literature, or develop a theory of change based on the review of research. The review and theories of change must assume that students are working toward achieving proficiency on grade-level mathematics content standards.

(b) A plan to conduct a program of research that answers the following questions:

(1) What supports can be added to electronic text to increase access to mathematics content and to promote academic achievement in mathematics for students with disabilities?

(2) What student characteristics (e.g., functional, language, and technology skills) and contextual factors (e.g., teacher training, curriculum, and student groupings) influence the effectiveness of the instructional supports in learning mathematics?

The plan must include systematic procedures to develop or adapt (or both) existing instructional supports. These instructional supports should be based on ongoing formative evaluation and testing of the usability of the instructional supports and their impact on student mathematics learning in school settings. The theory or theories of change may provide a useful framework for developing research designs and instruments.

(c) Research designs that:

(1) Align with the research questions being addressed. For research questions involving impact on student learning, the evaluation of the effectiveness of the instructional supports developed or adapted by the Center must employ experimental designs whenever possible, or quasi-experimental group designs or strong single subject designs when experimental designs are not possible.

(2) Describe methodologies and provide documentation that available sample sizes are sufficient to produce the statistical power needed to yield conclusive findings. Outcome measures may include experimenter-developed instruments, but instruments should have instructional relevance and be aligned with grade-level mathematics content; and

(3) Limits research to specific segments of the population of students with disabilities, particular areas of mathematics, or particular student ages. However, the breadth of the project is one factor that may be considered by the reviewers in rating the significance of the project.

(d) A plan that describes the project's strategy for disseminating products and findings to appropriate audiences. The dissemination plan may include presentations and written products, but must include a final report that summarizes the project's findings and their implications for using accessible and supported electronic text to improve mathematics learning and academic achievement for students with disabilities. The plan must also include materials to promote application of the research findings in educational practice;

(e) A budget for a summative evaluation to be conducted by an independent third party; and

(f) A budget for attendance at the following:

(1) A one and one half day kick-off meeting to be held in Washington, DC, within four weeks after receipt of the award, and an annual planning meeting held in Washington, DC, with the OSEP Project Officer during each subsequent year of the project period in conjunction with either the technical work group meeting or the Project Directors' meeting discussed below.

(2) A one-day technical work group meeting to be held in Washington, DC, during each year of the project period.

(3) A three-day Project Directors' Conference in Washington, DC, during each year of the project period.

(4) A two-day Technology Innovation meeting in Washington, DC, during each year of the project period; and

(5) A one-day trip annually to attend Department briefings, Department-sponsored conferences, and other meetings, as requested by OSEP.

Project Activities. To meet the requirements of this priority, the project, at a minimum, must conduct the following activities:

(a) Submit for OSEP approval, within the first six months of the project period, a comprehensive work plan that includes any necessary revisions to the research review, the theories of change, the research plan, the timeline for implementing this plan, the evaluation plan, and the dissemination plan.

(b) Establish and maintain a technical work group that must meet in-person at least annually and by teleconference, as needed, to advise the project on research methods, review the designs, plans, activities, and outcomes of the Center, and provide technical support and advice throughout the project period. The technical work group must include individuals who in combination provide strong knowledge and expertise in—

(1) Design and development of accessible and supported electronic text;

(2) Mathematics instruction;

(3) The instructional needs of students with disabilities;

(4) Research design and statistical analysis; and

(5) Technology implementation in schools.

Persons with disabilities and parents of students with disabilities must be represented on the technical work group. The applicant must submit the names of proposed members of the technical work group to OSEP for approval within eight weeks after receipt of the award and hold the first meeting within the first four months of the project period.

(c) Implement the approved work plan according to the timeline.

(d) Maintain a Web site that meets government or industry-recognized standards for accessibility, if applicable; and

(e) Maintain ongoing communication with the OSEP Project Officer through monthly phone conversations, e-mail communication, quarterly progress reports, and annual performance reports.

Fourth and Fifth Years of the Project:

In deciding whether to continue funding the Center for the fourth and fifth years, the Secretary will consider the requirements of 34 CFR 75.253(a), and in addition—

(a) The recommendation of a review team consisting of experts selected by the Secretary. This review will be conducted during a one-day intensive meeting in Washington, DC, that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's findings, activities, products, and services may contribute to changed practice and improved results for students with disabilities.

References

Anderson-Inman, L. (2004). Reading on the web: Making the most of digital text. Wisconsin State Reading Association Journal, 44(2), 8-14.

Bryant, D.P., Bryant, B.R., & Hammill, D.D. (2000). Characteristic behaviors of students with LD who have teacher-identified math weaknesses. Journal of Learning Disabilities, 33, 168-177.

Higgins, K., & Boone, R. (2001). Adapting instruction for children with disabilities. In L. Searfoss, J. Readence, & M. Mallette (Eds.). Helping children learn to read: Creating a classroom literacy environment (4th ed., pp.330-365). Needham Heights, MA: Allyn & Bacon.

Lee, J., Grigg, W., and Dion, G. (2007). The nation's report card: Mathematics 2007 (NCES 2007-494). National Center for Education Statistics, Institute of Education Sciences, U.S. Department of Education, Washington, DC.

National Center for Education Statistics. (2001). The Nation's Report Card: Mathematics 2000, NCES 2001-517, by J.S. Braswell, A.D. Lutkus, W.S. Grigg, S.L. Santapau, B.S.-H. Tay-Lim, and M.S. Johnson. Washington, DC: U.S. Department of Education, Office of Educational Research and Improvement.

National Mathematics Advisory Panel (2008). Foundations for Success: The Final Report of the National Mathematics Advisory Panel. Washington, DC: U.S. Department of Education.

Rose, D., & Meyer, A. (2002). Teaching every student in the digital age: Universal design for learning. Alexandria, VA: Association for Supervision and Curriculum Development.

Simba Information. (2008). School Library Market Report 2008-2009. Stamford, CT: Author.

Stahl, S. (2004). The promise of accessible textbooks: Increased achievement for all students. Wakefield, MA: National Center on Accessing the General Curriculum; available at www.cast.org/publications/ncac/ncac_accessible.html.

Stevenson, K.R. (2006). Educational trends shaping school planning and design: 2007. Washington DC: National Clearinghouse for Educational Facilities.

U.S. Department of Education (2000). Office of Educational Research and Improvement. National Center for Education Statistics. The Nation's Report Card: Mathematics 2000, NCES 2001-517, by J.S. Braswell, A.D. Lutkus, W.S. Grigg, S.L. Santapau, B.S.-H. Tay-Lim, and M.S. Johnson. Washington, DC: 2001.

Waiver of Proposed Rulemaking: Under the Administrative Procedure Act (APA) (5 U.S.C. 553), the Department generally offers interested parties the opportunity to comment on proposed priorities and requirements. Section 681(d) of the IDEA, however, makes the public comment requirements of the APA inapplicable to the priority in this notice.

Program Authority: 20 U.S.C. 1474 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative Agreement.

Estimated Available Funds: $1,000,000.

Contingent upon the availability of funds and the quality of applications, we may make additional awards in FY 2010 from this competition.

Maximum Award: We will reject any application that proposes a budget exceeding $1,000,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: State educational agencies; local educational agencies (LEAs), including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of the IDEA).

(b) Applicants and grant recipients funded under this competition must involve individuals with disabilities or parents of individuals with disabilities ages birth through 26 in planning, implementing, and evaluating the projects (see section 682(a)(1)(A) of the IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this competition as follows: CFDA number 84.327H.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: July 23, 2009.

Deadline for Transmittal of Applications: August 24, 2009.

Applications for grants under this competition may be submitted electronically using the Electronic Grant Application System (e-Application) accessible through the Department's e-Grants system, or in paper format by mail or hand delivery. For information (including dates and times) about how to submit your application electronically, or by mail or hand delivery, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 1, 2009.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

If you choose to submit your application to us electronically, you must use e-Application, accessible through the Department's e-Grants portal page at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6 a.m. Monday until 7 p.m. Wednesday; and 6 a.m. Thursday until 8 p.m. Sunday, Washington, DC time. Please note that, because of maintenance, the system is unavailable between 8 p.m. on Sundays and 6 a.m. on Mondays, and between 7 p.m. on Wednesdays and 6 a.m. on Thursdays, Washington, DC time. Any modifications to these hours are posted on the e-Grants Web site.

• You will not receive additional point value because you submit your application in electronic format, nor will we penalize you if you submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If the E-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.327H), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.327H) 550 12th Street, SW., Room 7041, Potomac Center Plaza, Washington, DC 20202-4260.

The Application Control Center accepts hand deliveries daily between 8 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: In the past, the Department has had difficulty finding peer reviewers for certain competitions because so many individuals who are eligible to serve as peer reviewers have conflicts of interest. The Standing Panel requirements under the IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects are high-quality, are relevant to improving outcomes of children with disabilities, and contribute to improving outcomes for children with disabilities. We will collect data on these measures from the project funded under this competition.

The grantee will be required to report information on its project's performance in annual reports to the Department (34 CFR 75.590).

VII. Agency Contact

For Further Information Contact: David Malouf, U.S. Department of Education, 400 Maryland Avenue, SW., Room 4119, Potomac Center Plaza (PCP), Washington, DC 20202-2550. Telephone: (202) 245-6253.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services to perform the functions of the Assistant Secretary for Special Education and Rehabilitative Services.

Dated: July 17, 2009.
Andrew J. Pepin,
Executive Administrator for Special Education and Rehabilitative Services.

[FR Doc. E9-17552 Filed 7-22-09; 8:45 am]

BILLING CODE 4000-01-P